DEPARTMENT OF HOMELAND SECURITY

Federal Law Enforcement Training Center

[Docket No. FLETC-2008-0003]

State and Local Training Advisory Committee

AGENCY: Federal Law Enforcement Training Center (FLETC), DHS.

ACTION: Committee Management; Notice of Federal Advisory Committee Meeting.

SUMMARY: The State and Local Training Advisory Committee (SALTAC) will meet on October 16, 2008, on St. Simons Island, GA. The meeting will be open to the public.

DATE: The State and Local Training Advisory Committee will meet Thursday, October 16, 2008, from 8 a.m. to 4 p.m. Please note that the meeting may close early if the committee has completed its business.

ADDRESSES: The meeting will be held at the Epworth by the Sea, 100 Arthur J. Moore Drive, St. Simons Island, GA 31522. Send written material, comments, and/or requests to make an oral presentation to the contact person listed below by October 6th. Requests to have a copy of your material distributed to each member of the committee prior to the meeting should reach the contact person at the address below by October 6th. Comments must be identified by FLETC-2008-0003 and may be submitted by one of the following methods:

• Federal eRulemaking Portal: http://www.regulations.gov. Follow the instructions for submitting comments.

• E-mail: reba.fischer@dhs.gov. Include docket number in the subject line of the message.

• Fax: (912) 267-3531. (Not a toll-free number.)

• Mail: Reba Fischer, Designated Federal Officer (DFO), Federal Law Enforcement Training Center, Department of Homeland Security, 1131 Chapel Crossing Road, Townhouse 396, Glynco, GA 31524.

Instructions: All submissions received must include the words “Department of Homeland Security” and the docket number for this action. Comments received will be posted without alteration at www.regulations.gov, including any personal information provided.

Docket: For access to the docket to read background documents or comments received by the State and Local Training Advisory Committee, go to www.regulations.gov.

FOR FURTHER INFORMATION CONTACT: Reba Fischer, Designated Federal Officer, Federal Law Enforcement Training Center, Department of Homeland Security, 1131 Chapel Crossing Road, Townhouse 396, Glynco, GA 31524; (912) 267-2343; reba.fischer@dhs.gov.

SUPPLEMENTARY INFORMATION: Notice of this meeting is given under the Federal Advisory Committee Act, 5 U.S.C. App. (Pub. L. 92-463). The mission of the State and Local Training Advisory Committee is to advise and make recommendations on matters relating to the selection, development, content and delivery of training services by the OSL/FLETC to its state, local, campus, and tribal law enforcement customers.

Draft Agenda

The draft agenda for this meeting includes briefings to update committee members on OSL and FLETC training initiatives and to provide feedback on committee recommendations. Committee members will be asked to provide recommendations on intelligence led policing, rural training needs, and validation of training programs.

Procedural

This meeting is open to the public. Please note that the meeting may close early if all business is finished.

Visitors must pre-register attendance to ensure adequate seating. Please provide your name and telephone number by close of business on October 6, 2008, to Reba Fischer (contact information above).

Information on Services for Individuals with Disabilities: For information on facilities or services for individuals with disabilities or to request special assistance at the meeting, contact Reba Fischer as soon as possible.

Dated: September 11, 2008.
Seymour A. Jones,
Deputy Assistant Director, Office of State and Local Law Enforcement Training.

[FR Doc. E8-22997 Filed 9-29-08; 8:45 am]

BILLING CODE 4810-32-P